DEPARTMENT OF COMMERCE

National Oceanic and Atmospheric Administration

New England Fishery Management Council; Public Meeting

AGENCY: National Marine Fisheries Service (NMFS), National Oceanic and Atmospheric Administration (NOAA), Commerce.

ACTION: Notice; public meeting.

SUMMARY: The New England Fishery Management Council's (Council) Groundfish Committee will meet to consider actions affecting New England fisheries in the exclusive economic zone (EEZ).

DATES: The meeting will be held on Thursday, August 2, 2012 at 9 a.m.

ADDRESSES: The meeting will be held at the Sheraton Harborside Hotel, 250 Market Street, Portsmouth, NH 03801; telephone: (603) 431-2300; fax: (603) 433-5649.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Groundfish Oversight Committee will discuss possible adjustments to sector management measures and issues related to setting Acceptable Biological Catches (ABCs), Annual Catch Limits (ACLs), and Accountability Measures (AMs). The Committee will continue to develop options to improve sector monitoring, including both at-sea and dockside monitoring. They may discuss different funding mechanisms, appropriate coverage levels, full retention of allocated groundfish species, and ACE carry-over provisions. With respect to ABCs/ACLs/AMs, the Committee will consider additional sub-ACLs for the scallop fishery for stocks such as SNE/MAB windowpane flounder and SNE/MA winter flounder. The Committee may also develop options for additional sub-ACLs for fisheries outside the Council's jurisdiction that catch these stocks. Examples of fisheries that may be affected include the fluke and scup fisheries that are managed by the Mid-Atlantic Fishery Management Council (MAFMC) and the Atlantic States Marine Fisheries Commission (ASMFC), and the squid fisheries are managed by the MAFMC. Committee members will also discuss additional reactive AMs for wolffish, SNE/MA winter flounder, and Atlantic halibut. The Committee may also discuss other issues that may be incorporated into the framework, such as issues related to Georges Bank yellowtail flounder management. Options identified by the Committee will be included in a future management action (Framework Adjustment 48) that will be considered by the Council in the fall of 2012. The Committee is also expected to receive a preliminary report on the recent assessments of Eastern Georges Bank cod and haddock, and Georges Bank yellowtail flounder that were conducted by the Transboundary Resource Assessment Committee. The Committee may provide comments for consideration by the Transboundary Management Guidance Committee when it negotiates FY 2013 quotas for these stocks. Other business may be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: July 13, 2012.
Tracey L. Thompson,
Acting Deputy Director, Office of Sustainable Fisheries, National Marine Fisheries Service.

[FR Doc. 2012-17430 Filed 7-17-12; 8:45 am]

BILLING CODE 3510-22-P